DEPARTMENT OF DEFENSE

Office of the Secretary

[Docket ID: DOD-2010-OS-0027]

Privacy Act of 1974; System of Records

AGENCY: Office of the Secretary, DoD.

ACTION: Notice to alter a system of records.

SUMMARY: The Office of the Secretary of Defense proposes to alter a system of records in its inventory of record systems subject to the Privacy Act of 1974 (5 U.S.C. 552a), as amended.

DATES: This proposed action would be effective without further notice on April 19, 2010 unless comments are received which result in a contrary determination.

ADDRESSES: You may submit comments, identified by docket number and title, by any of the following methods:

• Federal Rulemaking Portal: http://www.regulations.gov. Follow the instructions for submitting comments.

• Mail: Federal Docket Management System Office, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard at (703) 588-6830.

SUPPLEMENTARY INFORMATION: The Office of the Secretary of Defense notices for systems of records subject to the Privacy Act of 1974 (5 U.S.C. 552a), as amended, have been published in the Federal Register and are available from: Chief, OSD/JS Privacy Office, Freedom of Information Directorate, Washington Headquarters Services, 1155 Defense Pentagon, Washington, DC 20301-1155.

The proposed system report, as required by 5 U.S.C. 552a(r) of the Privacy Act of 1974, as amended, was submitted on March 4, 2010, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996; 61 FR 6427).

Dated: March 15, 2010.
Mitchell S. Bryman,
Alternate OSD Federal Register Liaison Officer, Department of Defense.

DPR 30

System Name:

Department of Defense Readiness Reporting System (DRRS) (December 10, 2004; 69 FR 71803).

Changes:

Delete system ID number entry and replace with “DPR 30 DoD.”

* * * * *

System Location:

Delete entry and replace with “Office of the Secretary of Defense, Office of the Under Secretary of Defense for Personnel and Readiness, Director of Readiness, Programming and Assessment, 4000 Defense Pentagon, Washington, DC 20301-4000.

Military Major Commands of the U.S. Air Force, U.S. Army, U.S. Navy and U.S. Marine Corps, Coast Guard, Combatant Commanders and Reserve Affairs. For a complete list of mailing addresses, contact the system manager.”

* * * * *

Categories of records in the system:

Delete entry and replace with “Name, date of birth, gender, Social Security Number (SSN), rank/grade, duty status, skill specialty, and deployability and related reason codes for readiness posture which are used in determining the readiness status of individuals and units.”

* * * * *

Routine uses of records maintained in the system, including categories of users and the purposes of such uses:

Delete entry and replace with “In addition to those disclosures generally permitted under 5 U.S.C. 552a(b) of the Privacy Act of 1974, these records may be disclosed outside the DoD as a routine use pursuant to 5 U.S.C. 552a(b)(3) as follows:

The DoD “Blanket Routine Uses” set forth at the beginning of the Office of the Secretary of Defense compilation of systems of records notices also apply to this system.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.”

* * * * *

Retrievability:

Delete entry and replace with “Individual's name and unit.”

Safeguards:

Delete entry and replace with “Access is limited to authorized and appropriately cleared personnel as determined by the system manager. Electronic records are maintained in a controlled facility. Physical entry is restricted by use of locks, guards, and is accessible only to authorized or cleared personnel. Access is limited to person(s) responsible for servicing the record in performance of their official duties, which are properly screened and cleared for need-to-know. System users can view only truncated Social Security Number (SSN). Access to computerized data requires Common Access Card (CAC) and password, which are changed periodically.”

Retention and disposal:

Delete entry and replace with “Permanent. At the end of the fiscal year, a snapshot is taken and transferred to the National Archives and Records Administration (NARA).”

System manager(s) and address:

Delete entry and replace with “Director, Defense Readiness Reporting System Implementation Office, Office of the Secretary of Defense, Office of the Under Secretary Defense for Personnel and Readiness, 4000 Defense Pentagon, Washington, DC 20301-4000.”

Notification procedure:

Delete entry and replace with “Individuals seeking to determine whether information about themselves is contained in this system should address written inquiries to the local commander. For a complete list of mailing addresses, contact the system manager.

Individual should provide their full name and unit and sign the request.”

Record access procedures:

Delete entry and replace with “Individuals seeking access to information about themselves contained in this system should address written inquiries to the local commander. For a complete list of mailing addresses, contact the system manager.

Individual should provide their full name and unit and sign the request.”

* * * * *

Record source categories:

Delete entry and replace with “Information is obtained from DoD Staff, field installations and several DoD information systems to include the Enlisted Personnel Management Information System (EPMIS), Officer Personnel Management Information System (OPMIS), Marine Corps Total Force System (MCTFS), Medical Readiness Reporting System (MRRS), and the Military Personnel Records System.”

* * * * *

DPR 30 DoD

System name:

Department of Defense Readiness Reporting System (DRRS) Records.

System location:

Office of the Secretary of Defense, Office of the Under Secretary of Defense for Personnel and Readiness, Director of Readiness, Programming and Assessment, 4000 Defense Pentagon, Washington, DC 20301-4000.

Military Major Commands of the U.S. Air Force, U.S. Army, U.S. Navy and U.S. Marine Corps, Coast Guard, Combatant Commanders and Reserve Affairs. For a complete list of mailing addresses, contact the system manager.

Categories of individuals covered by the system:

All active duty, National Guard, and Reserve military service members of the Air Force, Navy, Army, Marine Corps, and approved foreign military personnel assigned/attached to a readiness reporting unit under the auspices of Department of Defense Readiness Reporting guidelines and procedures.

Categories of records in the system:

Name, date of birth, gender, Social Security Number (SSN), rank/grade, duty status, skill specialty, deployability and related reason codes for readiness posture.

Authority for maintenance of the system:

10 U.S.C. 117, Readiness Reporting System: establishment; Reporting to Congressional Committees; 10 U.S.C. 113, Secretary of Defense; DoD Directive 5149.2, Senior Readiness Oversight Council; DoD Directive 7730.65, Department of Defense Readiness Reporting System; E.O. 9397 (SSN), as amended.

Purpose(s):

The Defense Readiness Reporting System (DRRS) provides the means to manage and report the readiness of the Department of Defense and its subordinate Components to execute the National Military Strategy as assigned by the Secretary of Defense in the Defense Planning Guidance, Contingency Planning Guidance, Theater Security Cooperation Guidance, and the Unified Command Plan. DRRS builds upon the processes and readiness assessment tools used in the Department of Defense to establish a capabilities-based, adaptive, near real-time readiness reporting system.

All DoD Components will use the DRRS information to identify critical readiness deficiencies, develop strategies for rectifying these deficiencies, and ensure they are addressed in appropriate program/budget planning or other DoD management systems. DDRS will permit commanders to obtain pertinent readiness data on personnel assigned/attached to their units.

The major subsystems of the Defense Readiness Reporting System include:

(a) The Enhanced Status of Resources and Training System (ESORTS), an automated, near real-time readiness reporting system that provides resource standards and current readiness status for operational forces and defense support organizations in terms of their ability to perform their mission essential tasks.

(b) The Planning and Assessment Tools Suite (PATS) provides the capability to assess plans using real unit data.

Routine uses of records maintained in the system, including categories of users and the purposes of such uses:

In addition to those disclosures generally permitted under 5 U.S.C. 552a(b) of the Privacy Act of 1974, these records may be disclosed outside the DoD as a routine use pursuant to 5 U.S.C. 552a(b)(3) as follows:

The DoD “Blanket Routine Uses” set forth at the beginning of the Office of the Secretary of Defense compilation of systems of records notices also apply to this system.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

Policies and practices for storing, retrieving, accessing, retaining, and disposing of records in the system:

Storage:

Electronic storage media.

Retrievability:

Individual's name and unit.

Safeguards:

Access is limited to authorized and appropriately cleared personnel as determined by the system manager. Electronic records are maintained in a controlled facility. Physical entry is restricted by use of locks, guards, and is accessible only to authorized or cleared personnel. Access is limited to person(s) responsible for servicing the record in performance of their official duties, which are properly screened and cleared for need-to-know. System users can view only truncated Social Security Number (SSN). Access to computerized data requires Common Access Card (CAC) and password, which are changed periodically.

Retention and disposal:

Permanent. At the end of the fiscal year, a snapshot is taken and transferred to the National Archives and Records Administration (NARA).

System manager(s) and address:

Director, Defense Readiness Reporting System Implementation Office, Office of the Secretary of Defense, Office of the Under Secretary of Defense for Personnel and Readiness, 4000 Defense Pentagon, Washington, DC 20301-4000.

Notification procedure:

Individuals seeking to determine whether information about themselves is contained in this system should address written inquiries to the local commander. For a complete list of mailing addresses, contact the system manager.

Individual should provide their full name and unit and sign the request.

Record access procedures:

Individuals seeking access to information about themselves contained in this system should address written inquiries to the local commander. For a complete list of mailing addresses, contact the system manager.

Individual should provide their full name and unit and sign the request.

Contesting record procedures:

The Office of the Secretary of Defense rules for accessing records, for contesting contents and appealing initial agency determinations are published in OSD Administrative Instruction 81; 32 CFR part 311; or may be obtained from the system manager.

Record source categories:

Information is obtained from DoD Staff, field installations and several DoD information systems to include the Enlisted Personnel Management Information System (EPMIS), Officer Personnel Management Information System (OPMIS), Marine Corps Total Force System (MCTFS), Medical Readiness Reporting System (MRRS), and the Military Personnel Records System.

Exemptions claimed for the system:

None.

[FR Doc. 2010-5963 Filed 3-17-10; 8:45 am]

BILLING CODE 5001-06-P